DEPARTMENT OF COMMERCE

National Institute of Standards and Technology

Proposed Information Collection; Comment Request; Survey of Information Habits and Preferences of Millennial Scientists

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 21, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Terrie Wheeler, Assistant Chief, Information Services Division, at (301) 975-3772, terrie.wheeler@nist.gov.

SUPPLEMENTARY INFORMATION:

I. Abstract

This study will determine how the next generation of scientists, frequently referred to as the Millennial Generation, will seek scientific information in their research. This generation was born between 1982 and 2000. Having grown up with information technology, general studies show this population has technological preferences for receiving and integrating content, and this study is to learn if this extends to the scientific content among young scientists. It will identify most useful (and most desired) devices and formats, so that the Information Services Division can plan to serve the next generation of scientists. The findings will impact how digital scientific content is harvested, identified using metadata, stored, accessed, and disseminated. The project will identify young scientists' preferences for content format and ease of assimilation into current processes. Specifically the project aims to learn: (1) Which library resources and information services are most valuable and why, and (2) what scientific library resources do not exist that could, or are not yet robust enough to be valuable. Further the study aims to learn: (3) In what specific ways are commercial Internet tools both successful and unsuccessful in helping find answers, (4) which platforms and devices are most helpful and why, and (5) which technologies help support collaboration with peers. The project plans to use Summer Undergraduate Research Fellowship (SURF) students who work at the National Institute of Standards and Technology every summer as the test population. The survey is voluntary, and all information gathered will be carefully safeguarded.

II. Method of Collection

The study will use an electronic survey form. SURF students will have the URL sent to them in an e-mail message so they may take the survey on any computer with a Web browser if they choose.

III. Data

OMB Number: None.

Form Number: None.

Type of Review: Regular submission.

Affected Public: Students enrolled in the NIST SURF program for 2007.

Estimated Number of Respondents: 100.

Estimated Time per Response: 20 minutes.

Estimated Total Annual Burden Hours: 33.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 14, 2007.
Gwellnar Banks,
Management Analyst, Office of the Chief Information Officer.

[FR Doc. E7-5097 Filed 3-20-07; 8:45 am]

BILLING CODE 3510-13-P